DEPARTMENT OF LABOR

Employment and Training Administration

[TA-W-73,145]

The Jewelry Stream, Los Angeles, CA; Notice of Affirmation Determination Regarding Application for Reconsideration

By application dated October 1, 2010, a California state workforce official requested administrative reconsideration of the Department of Labor's termination of investigation applicable to workers and former workers of M&L Manufacturing, Inc. and The Jewelry Stream, Los Angeles, California. The termination notice was signed on August 20, 2010, and was published in the Federal Register on September 3, 2010 (75 FR 54187).

The termination of investigation was based on information obtained during the initial investigation that the firm identified in the Trade Adjustment Assistance (TAA) petition—M&L Manufacturing, Inc. and The Jewelry Stream, Los Angeles, California—is not one firm but are separate, unaffiliated companies. Therefore, the Department determined that the petition is invalid.

In the request for reconsideration, the state workforce official stated that the individual on whose behalf the TTA petition was filed believed that the aforementioned companies are one firm. In support of the request for reconsideration, the state workforce official supplied new and additional information provided by the individual who sought assistance from the state workforce official (“I started to work for M&L Manufacturing, Inc. on August of 1990, but for some reason and without notification I started to receive my checks in 2005 under the name of The Jewelry Stream * * * I was under the impression that I had worked for the same company from 1990 to 2008.”

The Department has carefully reviewed the request for reconsideration and the existing record, and has determined that the Department will conduct further investigation to determine if the petitioning workers (the newly clarified worker group, The Jewelry Stream, Los Angeles, California) meet the eligibility requirements of the Trade Act of 1974, as amended.

Conclusion

After careful review of the application, I conclude that the claim is of sufficient weight to justify reconsideration of the U.S. Department of Labor's prior decision. The application is, therefore, granted.

Signed at Washington, DC, this 10th day of November, 2010.
Del Min Amy Chen,
Certifying Officer, Office of Trade Adjustment Assistance.

[FR Doc. 2010-29428 Filed 11-22-10; 8:45 am]

BILLING CODE 4510-FN-P